Title 3—

The President

Executive Order 14079 of August 3, 2022

Securing Access to Reproductive and Other Healthcare Services

By the authority vested in me as President by the Constitution and the laws of the United States of America, it is hereby ordered as follows:

Section 1. Policy. On July 8, 2022, following a decision by the Supreme Court to overrule Roe v. Wade, 410 U.S. 113 (1973), I signed Executive Order 14076 (Protecting Access to Reproductive Healthcare Services). As that order recognized, eliminating the right recognized in Roe has had and will continue to have devastating implications for women's health and public health more broadly.

Following that order, the Department of Health and Human Services (HHS) has taken critical steps to address those effects. These steps include clarifying the obligation of hospitals and providers under the Emergency Medical Treatment and Labor Act, 42 U.S.C. 1395dd, to provide to patients presenting at an emergency department with an emergency medical condition stabilizing care, including an abortion, if that care is necessary to stabilize their emergency medical condition, and issuing guidance to the Nation's retail pharmacies on their obligations under Federal civil rights laws—including section 504 of the Rehabilitation Act, 29 U.S.C. 794, and section 1557 of the Affordable Care Act, 42 U.S.C. 18116—to ensure equal access to comprehensive reproductive and other healthcare services, including for women who are experiencing miscarriages.

However, the continued advancement of restrictive abortion laws in States across the country has created legal uncertainty and disparate access to reproductive healthcare services depending on where a person lives, putting patients, providers, and third parties at risk and fueling confusion for hospitals and healthcare providers, including pharmacies. There have been numerous reports of women denied health- and life-saving emergency care, as providers fearful of legal reprisal delay necessary treatment for patients until their conditions worsen to dangerous levels. There are also reports of women of reproductive age being denied prescription medication at pharmacies—including medication that is used to treat stomach ulcers, lupus, arthritis, and cancer—due to concerns that these medications, some of which can be used in medication abortions, could be used to terminate a pregnancy. Reportedly, a healthcare provider, citing a State law restricting abortion, even temporarily stopped providing emergency contraception.

As it remains the policy of my Administration to support women's access to reproductive healthcare services, including their ability to travel to seek abortion care in States where it is legal, I am directing my Administration to take further action to protect access to reproductive healthcare services and to address the crisis facing women's health and public health more broadly.

Sec. 2. Definition. The term “reproductive healthcare services” means medical, surgical, counseling, or referral services relating to the human reproductive system, including services relating to pregnancy or the termination of a pregnancy.

Sec. 3. Advancing the Ability to Obtain Reproductive Healthcare Services. In furtherance of the policy set forth in section 1 of this order, the Secretary of HHS shall consider actions to advance access to reproductive healthcare services, including, to the extent permitted by Federal law, through Medicaid for patients traveling across State lines for medical care.

Sec. 4. Promoting Compliance with Non-Discrimination Law in Obtaining Medical Care. In furtherance of the policy set forth in section 1 of this order, and to ensure that individuals are not denied necessary healthcare on the basis of any ground protected by Federal law, including current pregnancy, past pregnancy, potential or intended pregnancy, or other medical conditions, the Secretary of HHS shall consider all appropriate actions to advance the prompt understanding of and compliance with Federal non-discrimination laws by healthcare providers that receive Federal financial assistance. Such actions may include:

(a) providing technical assistance for healthcare providers that have questions concerning their obligations under Federal non-discrimination laws;

(b) convening healthcare providers to provide information on their obligations under Federal non-discrimination laws and the potential consequences of non-compliance; and

(c) issuing additional guidance, or taking other action as appropriate, in response to any complaints or other reports of non-compliance with Federal non-discrimination laws.

Sec. 5. Data Collection. The Secretary of HHS shall evaluate the adequacy of research, data collection, and data analysis and interpretation efforts at the National Institutes of Health, the Centers for Disease Control and Prevention, and other relevant HHS components in accurately measuring the effect of access to reproductive healthcare on maternal health outcomes and other health outcomes. Following that evaluation, the Secretary shall take appropriate actions to improve those efforts.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

August 3, 2022.

[FR Doc. 2022-17420

Filed 8-10-22; 8:45 am]

Billing code 3395-F2-P